CORPORATION FOR NATIONAL AND COMMUNITY SERVICE

Sunshine Act Meeting

The Board of Directors of the Corporation for National and Community Service gives notice of the following meeting:

Date and Time: Monday, September 20, 2004, 1 p.m.-3 p.m.

Place: Corporation for National and Community Service, 1201 New York Avenue, NW., 8th Floor, Room 8410, Washington, DC 20525.

Status: Open.

Matters To Be Considered:

I. Chair's Opening Remarks

II. Consideration of Prior Meeting's Minutes

III. Committee Reports

IV. CEO Report

V. Public Comment

Accommodations: Anyone who needs an interpreter or other accommodation should notify the Corporation's contact person by 5 p.m. Friday, September 17, 2004.

Contact Person for More Information: David Premo, Public Affairs Associate, Public Affairs, Corporation for National and Community Service, 8th Floor, Room 8612C, 1201 New York Avenue NW., Washington, DC 20525. Phone (202) 606-5000 ext. 278. Fax (202) 565-2784. TDD: (202) 565-2799. E-mail: dpremo@cns.gov.

Dated: September 9, 2004.
Frank R. Trinity,
General Counsel.

[FR Doc. 04-20748 Filed 9-10-04; 9:59 am]

BILLING CODE 6050-$$-P